DEPARTMENT OF THE INTERIOR

Bureau of Land Management

[14X LLIDB00000.L71220000.EU0000.LVTFD1401400 (IDI-35073)]

Public Land Order No. 7829; Partial Revocation of the Executive Order Dated April 17, 1926; Idaho

AGENCY: Bureau of Land Management, Interior.

ACTION: Public Land Order.

SUMMARY: This order partially revokes a withdrawal created by an Executive Order insofar as it affects 40 acres of public land withdrawn from settlement, sale, location, or entry under the public land laws, including location for non-metalliferous minerals under the United States mining laws, for protection of springs and waterholes and designated as Public Water Reserve No. 107. This order also opens the land to sale to resolve an occupancy trespass.

DATES: Effective Date: August 27, 2014.

FOR FURTHER INFORMATION CONTACT: Laura Underhill, BLM, Idaho State Office, 1387 S. Vinnell Way, Boise, ID 83709, 208-373-3866 or Jeremy Bluma, BLM, Boise District Office, 3948 Development Avenue, Boise, ID 83705, 208-384-3348.

SUPPLEMENTARY INFORMATION: The Bureau of Land Management has determined that a portion of the withdrawal created by the Executive Order dated April 17, 1926, for Public Water Reserve No. 107, is no longer used for the purpose for which the land was withdrawn, and partial revocation of the withdrawal is needed to facilitate a land sale to resolve an occupancy trespass.

Order

By virtue of the authority vested in the Secretary of the Interior by Section 204 of the Federal Land Policy and Management Act of 1976, 43 U.S.C. 1714, it is ordered as follows:

1. The withdrawal created by the Executive Order dated April 17, 1926, which established Public Water Reserve No. 107, is hereby revoked insofar as it affects the following described land:

Boise Meridian

T. 3 S., R. 10 E.,

Sec. 31, NE¼SE¼.

The area described contains 40 acres in Elmore County.

2. At 9 a.m., on August 27, 2014, the land described in Paragraph 1 will be open to sale pursuant to Section 203 of the Federal Land Policy and Management Act of 1976, as amended, (43 U.S.C. 1713), subject to valid existing rights, the provisions of existing withdrawals, other segregations of record and the requirements of applicable law.

Dated: August 19, 2014.
Janice M. Schneider,
Assistant Secretary—Land and Minerals Management.

[FR Doc. 2014-20392 Filed 8-26-14; 8:45 am]

BILLING CODE 4310-GG-P